DEPARTMENT OF ENERGY

Federal Energy Regulatory Commission

[Docket No. ER00-1655-000 and ER00-1655-001]

Southern Company Services, Inc.; Notice of Issuance of Order

June 19, 2000.

On February 18, 2000, as amended on May 8, 2000, Southern Company Services, Inc. (SCSI), as agent for Alabama Power Company, Georgia Power Company, Gulf Power Company, Mississippi Power Company, and Savannah Electric and Power Company, filed with the Commission a revised Market-Based Rate Power Sales Tariff and an amended and restated Intercompany Interchange Contract (IIC).

In its filing, SCSI requests authority to include under the amended and restated IIC a new operating company that SCSI is forming, New Operating Company (NewCo).¹ SCSI's filing also requested certain waivers and authorizations for NewCo. In particular, SCSI requested that the Commission grant blanket approval under 18 CFR Part 34 of all future issuances of securities and assumptions of liabilities by NewCo. On June 15, 2000, the Commission issued an Order Accepting For Filing Proposed Market-Based Rates And Amended Intercompany Contract As Modified (Order), in the above-docketed proceeding.

¹ SCSI notes that NewCo is subject to regulatory approval from the Securities and Exchange Commission (SEC). However, this approval has not yet been obtained. Upon receipt of SEC approval, SCSI states that a submittal to this Commission will be made to reflect the formal name of NewCo.

The Commission's June 15, 2000 Order granted the request for blanket approval under Part 34, subject to the conditions found in Ordering Paragraphs (F), (G), and (I):

(F) Within 30 days of the date of this order, any person desiring to be heard or to protest the Commission's blanket approval of issuances of securities or assumptions of liabilities by NewCo should file a motion to intervene or protest with the Federal Energy Regulatory Commission, 888 First Street, NE., Washington, DC 20426, in accordance with rules 211 and 214 of the Commission's rules of practice and procedure, 18 CFR 385.211 and 385.214.

(G) Absent a request to be heard within the period set forth in Ordering Paragraph (F) above, NewCo are hereby authorized to issue securities and assume obligations and liabilities as guarantor, indorser, surety or otherwise in respect of any security of another person; provided that such issue or assumption is for some lawful object within the corporate purposes of NewCo, compatible with the public interest, and reasonably necessary or appropriate for such purposes.

(I) The Commission reserves the right to modify this order to require a further showing that neither public nor private interests will be adversely affected by continued Commission approval of NewCo's issuances of securities or assumptions of liabilities * * *

Notice is hereby given that the deadline for filing motions to intervene or protests, as set forth above, is July 17, 2000.

Copies of the full text of the Order are available from the Commission's Public Reference Branch, 888 First Street, N.E., Washington, D.C. 20426. The Order may also be viewed on the Internet at http://www.ferc.fed.us/online/rims.htm (call 202-208-2222 for assistance).

David P. Boergers,
Secretary.

[FR Doc. 00-15793 Filed 6-21-00; 8:45 am]

BILLING CODE 6717-01-M